SECURITIES AND EXCHANGE COMMISSION

[Release No. 34-53102; File No. SR-BSE-2005-48]

Self-Regulatory Organizations; Boston Stock Exchange, Inc.; Order Granting Approval of a Proposed Rule Change and Amendment No. 1 Thereto Requiring Exchange Members To Provide Electronic Mail Addresses to the Exchange

January 11, 2006.

On October 28, 2005, the Boston Stock Exchange, Inc. (“BSE” or “Exchange”) filed with the Securities and Exchange Commission (“Commission”), pursuant to Section 19(b)(1) of the Securities Exchange Act of 1934 (“Act”) ¹ and Rule 19b-4 thereunder,² a proposed rule change to require its members to provide electronic mail addresses to the Exchange. On November 23, 2005, the Exchange filed Amendment No. 1 to the proposed rule change.³ The proposed rule change, as amended, was published for comment in the Federal Register on December 12, 2005.⁴ The Commission received no comments on the proposal. This order approves the proposed rule change, as amended.

¹ 15 U.S.C. 78s(b)(1).

² 17 CFR 240.19b-4.

³ In Amendment No. 1, BSE made clarifying changes to its statement of purpose for the proposed rule change.

⁴ Securities Exchange Act Release No. 52895 (December 5, 2005), 70 FR 73490 (December 12, 2005) (SR-BSE-2005-48).

Proposed Section 1(o) of Chapter XXV of BSE's rules provides that every member and member organization shall designate one or more electronic mail addresses for the purpose of receiving Exchange notices and communications and shall promptly update those electronic mail addresses when those addresses change or are no longer valid. In addition, proposed Section 1(o) of Chapter XXV provides that an authorized representative of the Exchange may elect to transmit notices or other communications to members and member organizations electronically, but that nothing in Section 1(o) of Chapter XXV shall be construed to supersede or modify either the method for service of process or other materials in any disciplinary proceeding or any other provisions of the Exchange rules setting out a specific method for the receipt of information from the Exchange.

The Commission finds that the proposed rule change is consistent with the requirements of the Act and the rules and regulations thereunder applicable to a national securities exchange.⁵ The Commission believes that the proposed rule change, as amended, is consistent with Section 6(b) of the Act,⁶ in general, and furthers the objectives of Section 6(b)(5) of the Act,⁷ in particular, in that it promotes just and equitable principles of trade, serves to remove impediments to and perfect the mechanism of a free and open market and a national market system, and protects investors and the public interest by allowing the Exchange to take advantage of available technology to communicate with its members in an efficient and cost-effective manner.

⁵ In approving this proposal, the Commission has considered the proposed rule's impact on efficiency, competition, and capital formation. See 15 U.S.C. 78c(f).

⁶ 15 U.S.C. 78f(b).

⁷ 15 U.S.C. 78f(b)(5).

It is therefore ordered, pursuant to Section 19(b)(2) of the Act,⁸ that the proposed rule change (SR-BSE-2005-48), as amended, is approved.

⁸ 15 U.S.C. 78s(b)(2).

For the Commission, by the Division of Market Regulation, pursuant to delegated authority.⁹
⁹ 17 CFR 200.30-3(a)(12).
Nancy M. Morris,
Secretary.

[FR Doc. E6-516 Filed 1-18-06; 8:45 am]

BILLING CODE 8010-01-P